DEPARTMENT OF LABOR

Employment and Training Administration

[NAFTA-04020]

Thomson Consumer Electronic, Incorporated, A.T.O. Division, Dunmore, PA; Notice of Affirmative Determination Regarding Application for Reconsideration

By letter of October 6, 2000, the company requested administrative reconsideration of the Department of Labor's Notice of Negative Determination Regarding Eligibility to Apply for NAFTA-Transitional Adjustment Assistance applicable to workers of the subject firm. The denial notice was signed on August 15, 2000, and published in the Federal Register on September 12, 2000 (65 FR 55050).

The petitioner presents evidence that the Department's survey of the company's customers was incomplete.

Conclusion

After careful review of the application, I conclude that the claim is of sufficient weight to justify reconsideration of the Department of Labor's prior decision. The application is, therefore, granted.

Signed at Washington, D.C. this 17th day of October 2000.
Linda G. Poole,
Certifying Officer, Division of Trade Adjustment Assistance.

[FR Doc. 00-27567 Filed 10-25-00; 8:45 am]

BILLING CODE 4510-30-M